DEPARTMENT OF THE TREASURY

Internal Revenue Service

26 CFR Part 1

[REG-106228-22]

RIN 1545-BQ61

Malta Personal Retirement Scheme Listed Transaction; Hearing Cancellation

AGENCY: Internal Revenue Service (IRS), Treasury.

ACTION: Cancellation of a notice of public hearing on a proposed rulemaking.

SUMMARY: This document cancels a public hearing on proposed regulations that would identify transactions that are the same as, or substantially similar to, certain Malta personal retirement scheme transactions as listed transactions, a type of reportable transaction.

DATES: The public hearing scheduled for September 21, 2023, at 10 a.m. ET is cancelled.

FOR FURTHER INFORMATION CONTACT: Vivian Hayes of the Publications and Regulations Branch, Associate Chief Counsel (Procedure and Administration) at (202) 317-6901 (not a toll-free number).

SUPPLEMENTARY INFORMATION: A notice of proposed rulemaking and a notice of public hearing that appeared in the Federal Register on June 7, 2023 (88 FR 37186) announced that a public hearing being held in person and by teleconference was scheduled for September 21, 2023, at 10 a.m. ET. The subject of the public hearing is under 26 CFR part 1.

The public comment period for these regulations expired on August 7, 2023. The notice of proposed rulemaking and notice of public hearing instructed those interested in testifying at the public hearing to submit a request to testify and an outline of the topics to be addressed. We did not receive a request to testify at the Public Hearing. Therefore, the public hearing scheduled for September 21, 2023, at 10 a.m. ET is cancelled.

Oluwafunmilayo A. Taylor,
Branch Chief, Publications and Regulations Branch, Associate Chief Counsel, (Procedure & Administration).

[FR Doc. 2023-18626 Filed 8-28-23; 8:45 am]

BILLING CODE 4830-01-P